DEPARTMENT OF TRANSPORTATION

Federal Aviation Administration

Notice of Intent and Request for Comment

AGENCY: Federal Aviation Administration (FAA), Department of Transportation (DOT).

ACTION: Notice of Intent (NOI) to prepare a Programmatic Environmental Impact Statement for licensing launches of horizontally launched vehicles and reentries of reentry vehicles.

SUMMARY: The FAA is publishing this notice to announce its intent to prepare a Programmatic Environmental Impact Statement (PEIS) in accordance with the National Environmental Policy Act (NEPA) of 1969 and the Council on Environmental Quality implementing regulations. This NOI also serves as an official request for comments in preparation of the PEIS. This PEIS will assess environmental impacts associated with the proposed action, reasonable alternatives including those identified during scoping, the no action alternative, and cumulative impacts. This PEIS will support decisions made to meet the FAA's responsibility to license commercial launches and reentries and launch and reentry site operations consistent with public health and safety, safety of property, and the national security and foreign policy interests of the United States. Issuing a launch or reentry license is considered a Federal action and is therefore subject to NEPA review.

Proposed Action and Possible Alternatives: The proposed action for this PEIS is to license the launch and landing of horizontally launched vehicles and the reentry of reentry vehicles. Reentry vehicles are defined as vehicles designed to return from Earth orbit or outer space to Earth; or reusable launch vehicles designed to return substantially intact from Earth orbit or outer space to Earth. A launch is defined as to place or try to place a launch vehicle or reentry vehicle and any payload from Earth (A) in a suborbital trajectory; (B) in Earth orbit in outer space; or (C) otherwise in outer space, including activities involved in the preparation of a launch vehicle or payload for launch.

Alternatives to the proposed action may include activities such as not licensing horizontal launches, not licensing vertical reentries, not licensing horizontal reentries, not licensing powered reentries, and not licensing unpowered reentries.

FAA exercises licensing authority in accordance with the Commercial Space Launch Act and Commercial Space Transportation Licensing Regulations, 14 CFR Ch.III, which authorize the FAA to license the launch of a launch vehicle when conducted within the U.S. and those operated by U.S. citizens abroad. The scope of the PEIS would include launches on both orbital and suborbital trajectories.

In May 1992, the U.S. Department of Transportation issued the Final Programmatic Environmental Impact Statement for Commercial Reentry Vehicles that assessed the environmental impacts of licensing the unpowered reentry of reentry vehicles from space to Earth. This 1992 PEIS relied in part on the analysis in the Programmatic Environmental Assessment of Commercial Expendable Launch Vehicle Programs, February 1986.

In May 2001, the FAA issued the Programmatic Environmental Impact Statement for Licensing Launches, which assessed the environmental impacts of licensing commercial launches. This 2001 PEIS updated and replaced the 1986 Programmatic Environmental Assessment (EA).

The PEIS for Licensing Launches of Horizontally Launched Vehicles and Reentries of Reentry Vehicles will update and replace the 1992 PEIS and address the launch of horizontally launched vehicles and the reentry of all reentry vehicles.

Scoping: Public scoping will be conducted as part of the PEIS development process to ensure that all interested government and private organizations, and the general public have an opportunity to express their concerns and identify topics that should be addressed in the PEIS. The FAA has developed a public participation Web site (http://ast.faa.gov/) which provides information on the development of this PEIS and provides the public an opportunity to submit comments electronically. Materials on the Web site include information about licensing and the NEPA process; frequently asked questions, a fact sheet on the PEIS; a comparison of the analysis of the previous programmatic documents; and public comment forms. Scoping meetings may be requested by organizations or individuals that feel their concerns cannot be met through the online opportunity to comment. Information regarding the development of the PEIS is available on the public participation Web site at http://ast.faa.gov/, under the “What's new on the AST Web site—Announcements” section.

To Submit Comments: Written comments, statements, and/or questions regarding scoping issues or the PEIS process should be addressed to Ms. Michon Washington, FAA Environmental Specialist, FAA PEIS, c/o ICF Consulting, 9300 Lee Highway, Fairfax, Virginia 22031; phone (703) 934-3950; fax (703) 934-3951; e-mail at FAA.PEIS@icfconsulting.com; or by Web site http://ast.faa.gov/.

Comments should clearly identify and describe the specific issue(s) or topics to be included in the PEIS. To ensure sufficient time to consider issues identified during public scoping, comments should be submitted no later than September 26, 2003.

Issued in: Washington DC.
Responsible Official:
Herbert Bachner,
Manager, Space Systems Development Division.

[FR Doc. 03-21319 Filed 8-19-03; 8:45 am]

BILLING CODE 4910-13-P